DEPARTMENT OF ENERGY

Federal Energy Regulatory Commission

Combined Notice of Filings # 1

December 22, 2009.

Take notice that the Commission received the following electric corporate filings:

Docket Numbers: EC10-20-000.

Applicants: Locust Ridge Wind Farm, LLC, Fortis Energy Marketing & Trading GP.

Description: Supplemental Filing of Fortis Energy Marketing & Trading GP and Locust Ridge Wind Farm, LLC.

Filed Date: 12/18/2009.

Accession Number: 20091218-5208.

Comment Date: 5 p.m. Eastern Time on Monday, December 28, 2009.

Take notice that the Commission received the following electric rate filings:

Docket Numbers: ER97-2846-017; ER99-2311-014.

Applicants: Carolina Power & Light Company; Florida Power Corporation.

Description: Notice of Change in Status for Florida Power Corporation.

Filed Date: 12/18/2009.

Accession Number: 20091218-5104.

Comment Date: 5 p.m. Eastern Time on Friday, January 8, 2010.

Docket Numbers: ER99-2341-014; ER06-1334-008; ER07-277-006.

Applicants: Invenergy Cannon Falls LLC, Spindle Hill Energy LLC, Hardee Power Partners Limited.

Description: Supplemental Information for Notification of Change in Fact Filing of Hardee Power Partners Limited, Spindle Hill Energy LLC and Invenergy Cannon Falls, LLC.

Filed Date: 12/22/2009.

Accession Number: 20091222-5124.

Comment Date: 5 p.m. Eastern Time on Tuesday, January 12, 2010.

Docket Numbers: ER07-277-007.

Applicants: Invenergy Cannon Falls LLC.

Description: Supplemental Information for Triennial Report Filing of Invenergy Cannon Falls LLC.

Filed Date: 12/22/2009.

Accession Number: 20091222-5121.

Comment Date: 5 p.m. Eastern Time on Tuesday, January 12, 2010.

Docket Numbers: ER08-237-006.

Applicants: Forward Energy LLC.

Description: Supplemental Information for Triennial Report Filing of Forward Energy LLC.

Filed Date: 12/22/2009.

Accession Number: 20091222-5127.

Comment Date: 5 p.m. Eastern Time on Tuesday, January 12, 2010.

Docket Numbers: ER09-1719-001.

Applicants: Midwest Independent Transmission System.

Description: Midwest Independent Transmission System Operator, Inc submits a compliance filing.

Filed Date: 12/17/2009.

Accession Number: 20091218-0206.

Comment Date: 5 p.m. Eastern Time on Thursday, January 7, 2010.

Docket Numbers: ER10-444-000.

Applicants: Carolina Power & Light Company.

Description: Carolina Power & Light Co. submits a revised Power Supply and Coordination Agreement.

Filed Date: 12/17/2009.

Accession Number: 20091218-0210.

Comment Date: 5 p.m. Eastern Time on Thursday, January 7, 2010.

Docket Numbers: ER10-445-000.

Applicants: Oncor Electric Delivery Company LLC.

Description: Oncor Electric Delivery Co, LLC's submits First Revised Sheet No. 37 et al to FERC Electric Tariff, Twelfth Revised Volume No. 1.

Filed Date: 12/17/2009.

Accession Number: 20091218-0209

Comment Date: 5 p.m. Eastern Time on Thursday, January 7, 2010.

Docket Numbers: ER10-446-000.

Applicants: Oncor Electric Delivery Company LLC.

Description: Oncor Electric Delivery Co, LLC's submits a First Revised Sheet No. 34 to FERC Electric Tariff, Seventh Revised Volume No. 2.

Filed Date: 12/17/2009.

Accession Number: 20091218-0208.

Comment Date: 5 p.m. Eastern Time on Thursday, January 7, 2010.

Docket Numbers: ER10-447-000.

Applicants: Southwood 2000, Inc.

Description: Southwood 2000, Inc submits a Notice of Cancellation.

Filed Date: 12/17/2009.

Accession Number: 20091218-0205.

Comment Date: 5 p.m. Eastern Time on Thursday, January 7, 2010.

Docket Numbers: ER10-448-000.

Applicants: Southwest Power Pool, Inc.

Description: Southwest Power Pool, Inc submits a Notice of Cancellation of Meter Agent Services Agreement.

Filed Date: 12/17/2009.

Accession Number: 20091218-0207.

Comment Date: 5 p.m. Eastern Time on Thursday, January 7, 2010.

Docket Numbers: ER10-449-000.

Applicants: Southwest Power Pool, Inc.

Description: Southwest Power Pool, Inc. submits a Notice of Cancellation of Meter Agent Services Agreement.

Filed Date: 12/17/2009.

Accession Number: 20091218-0204.

Comment Date: 5 p.m. Eastern Time on Thursday, January 7, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Nathaniel J. Davis, Sr.,
Deputy Secretary.

[FR Doc. E9-30803 Filed 12-28-09; 8:45 am]

BILLING CODE 6717-01-P